DEPARTMENT OF HEALTH AND HUMAN SERVICES

Administration for Community Living

Agency Information Collection Activities; Submission for OMB Review; Comment Request; Semi-Annual and Final Reporting Requirements for the Older Americans Act Title IV Discretionary Grants Program

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by February 16, 2016.

ADDRESSES: Submit written comments on the collection of information by email to OIRA_submission@omb.eop.gov Attn: OMB Desk Officer for ACL, or by fax 202-395-6974, Office of Information and Regulatory Affairs, OMB.

FOR FURTHER INFORMATION CONTACT: Lori Stalbaum at (202) 357-3452, or lori.stalbaum@acl.hhs.gov.

SUPPLEMENTARY INFORMATION: In compliance with 44 U.S.C. 3507, ACL has submitted the following proposed collection of information to OMB for review and clearance.

Describe Collection of Information

ACL is requesting to continue an existing approved collection of information for semi-annual and final reports pursuant to the requirements of its discretionary grant programs. ACL estimates the burden of this collection of information as follows: Frequency: Semi-annually with the Final report taking the place of the semi-annual report at the end of the final year of the grant. Respondents: States, public agencies, private nonprofit agencies, institutions of higher education, and organizations including tribal organizations. Estimated Number of Responses: 600. Total Estimated Burden Hours: 12,000.

Dated: January 12, 2016.
Kathy Greenlee,
Administrator and Assistant Secretary for Aging.

[FR Doc. 2016-00762 Filed 1-14-16; 8:45 am]

BILLING CODE 4154-01-P